DEPARTMENT OF COMMERCE

National Oceanic and Atmospheric Administration

Membership of the National Oceanic and Atmospheric Administration Performance Review Board

AGENCY: National Oceanic and Atmospheric Administration (NOAA), Department of Commerce.

ACTION: Notice of membership of NOAA Performance Review Board.

SUMMARY: In accordance with 5 U.S.C. 4314(c)(4), NOAA announces the appointment of twenty-six members to serve on the NOAA Performance Review Board (PRB). The NOAA PRB is responsible for reviewing performance appraisals and ratings of Senior Executive Service (SES) members and making written recommendations to the appointing authority on SES retention and compensation matters, including performance-based pay adjustments, awarding of bonuses and reviewing recommendations for potential Presidential Rank Award nominees. The appointment of members to the NOAA PRB will be for a period of 24 months.

Effective Date: The effective date of service of the twenty-six appointees to the NOAA Performance Review Board is October 15, 2004.

FOR FURTHER INFORMATION CONTACT: Claudia McMahon, Executive Resources Program Manager, Human Resources Management Office, Office of Finance and Administration, NOAA, 1305 East-West Highway, Silver Spring, MD 20910, (301) 713-0530 (ext. 204).

SUPPLEMENTARY INFORMATION: The names and position titles of the members of the NOAA PRB are set forth below (all are NOAA officials except Tyra Smith, Director, Human Resources, Bureau of the Census, Department of Commerce; Gerald R. Lucas, Director for Strategic Initiatives, Office of Human Resources Management, Department of Commerce; and Timothy J. Hauser, Deputy Under Secretary for International Trade, International Trade Administration, Department of Commerce:

John E. Jones, Jr., Deputy Assistant Administrator for Weather Services.

John E. Oliver, Jr., Deputy Assistant Administrator for Operations, National Marine Fisheries Service.

Debra Larson, Director, Office of Legislative Affairs, Office of Legislative Affairs.

Louisa Koch, Deputy Assistant Administrator for Oceanic and Atmospheric Research, Office of Oceanic and Atmospheric Research.

Carl Staton, Chief Information Officer and Director for High Performance Computing and Communications, Office of the Deputy Under Secretary.

Alan Neuschatz, Associate Assistant Administrator for Management and Chief Financial Officer/Chief Administrative Officer, National Ocean Service.

Mary Glackin, Assistant Administrator for Program, Planning and Integration, Office of Planning and Program Integration.

Colleen Hartman, Deputy Assistant Administrator, National Environmental Satellite, Data and Information Service.

Tyra Smith, Director, Human Resources, Bureau of the Census.

David Kennedy, Director, Office of Response and Restoration, National Ocean Service.

Ron Baird, Director, National Sea Grant College Program, Office of Oceanic and Atmospheric Research.

Helen M. Hurcombe, Director, Acquisition and Grants Office, NOAA Finance and Administration.

Ants Leetmaa, Director, Geophysical Fluid Dynamics Laboratory, Office of Oceanic and Atmospheric Research.

Gregory Mandt, Director, Office of Climate, Water and Weather Services, National Weather Service.

Louis W. Uccellini, Director, National Centers for Environmental Prediction, National Weather Service.

Rebecca Lent, Deputy Assistant Administrator for Regulatory Programs, National Marine Fisheries Service.

Michael Sissenwine, Director of Scientific Programs and Chief Science Advisor, National Marine Fisheries Service.

William Broglie, Chief Administrative Officer, NOAA Finance and Administration.

William J. Brennan, Deputy Assistant Secretary for International Affairs, Office of International Affairs.

Martha Cuppy, Director, Central Administrative Support Center, NOAA Finance and Administration.

Kathleen Kelly, Director, Office of Satellite Operations, National Environmental Satellite, Data and Information Service.

Jordan P. St. John, Director, Office of Public and Constituent Affairs, Office of Public and Constituent Affairs, NOAA.

Timothy J. Hauser, Deputy Under Secretary for International Trade, International Trade Administration, Department of Commerce.

Bonnie Morehouse, Director, Program Analysis & Evaluation, Office of NOAA Finance and Administration.

Donald E. Hout, Director, Ocean and Coastal Resource Management, National Ocean Service.

Gerald R. Lucas, Director for Strategic Initiatives, Office of Human Resources Management, Department of Commerce.

Dated: October 8, 2004.
Conrad C. Lautenbacher, Jr.,
Vice Admiral, U.S. Navy (Ret.), Under Secretary of Commerce, for Oceans and Atmosphere.

[FR Doc. 04-23218 Filed 10-15-04; 8:45 am]

BILLING CODE 3510-12-M